DEPARTMENT OF JUSTICE

Notice of Lodging of Consent Decree Under the Comprehensive Environmental Response, Compensation and Liability Act

In accordance with 28 U.S.C. 50.7 and section 122 of the Comprehensive Environmental Response, Compensation and Liability Act (“CERCLA”), 42 U.S.C. 9622, notice is hereby given that on September 18, 2003, a proposed Consent Decree in United States v. Harding Township, New Jersey, Civil Action No. 03-4445 (FSH), was lodged with the United States District Court for the District of New Jersey.

In this action the United States, on behalf of the United States Department of the Interior (“DOI”), seeks reimbursement of response costs incurred and to be incurred in connection with response actions at the former Harding Landfill (the “Site”), located within the Great Swamp National Wildlife Refuge in Harding Township, Morris County, New Jersey. The Complaint alleges that the defendant is liable under sections 107(a) and 113(f) of CERCLA, 42 U.S.C. 9607(a) and 9613(f). Pursuant to the Consent Decree, the defendant will transfer title to and interest in a 65 acre parcel of real property (the “Parcel”) adjacent to the Great Swamp National Wildlife Refuge to DOI's Central Hazardous Materials Fund as reimbursement for costs incurred and to be incurred by DOI at the Site. The Parcel will be managed by Fish & Wildlife Service as part of the Great Swamp National Wildlife Refuge for use by and enjoyment of the public.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Harding Township, New Jersey, D.J. Ref. 90-11-3-07117.

The Consent Decree may be examined at the Office of the United States Attorney for the District of New Jersey, 970 Broad Street, Room 400, Newark, New Jersey 07102, and at U.S. Department of the Interior, Office of the Solicitor, 1849 C Street, NW., Washington, DC 20240. During the public comment period, the Consent Decree may also be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 (25 cents per page reproduction cost), payable to the U.S. Treasury.

Ronald Gluck,
Assistant Section Chief, Environmental Enforcement Section, Environment and Natural Resources Division.

[FR Doc. 03-24932 Filed 10-1-03; 8:45 am]

BILLING CODE 4410-15-M